DEPARTMENT OF COMMERCE

International Trade Administration

Notice of Scope Rulings

AGENCY: Import Administration, International Trade Administration, Department of Commerce.

EFFECTIVE DATE: August 21, 2008.

SUMMARY: The Department of Commerce (“Department”) hereby publishes a list of scope rulings completed between April 1, 2008, and June 30, 2008. In conjunction with this list, the Department is also publishing a list of requests for scope rulings and anticircumvention determinations pending as of June 30, 2008. We intend to publish future lists after the close of the next calendar quarter.

FOR FURTHER INFORMATION CONTACT: Juanita H. Chen, AD/CVD Operations, China/NME Group, Import Administration, International Trade Administration, U.S. Department of Commerce, 14th Street and Constitution Avenue, N.W., Washington, DC 20230; telephone: 202-482-1904.

SUPPLEMENTARY INFORMATION:

Background

The Department's regulations provide that the Secretary will publish in the Federal Register a list of scope rulings on a quarterly basis. See 19 C.F.R. 351.225(o). Our most recent notification of scope rulings was published on May 22, 2008. See Notice of Scope Rulings, 73 FR 29739 (May 22, 2008). This current notice covers all scope rulings and anticircumvention determinations completed by Import Administration between April 1, 2008, and June 30, 2008, inclusive, and it also lists any scope or anticircumvention inquiries pending as of June 30, 2008. As described below, subsequent lists will follow after the close of each calendar quarter.

Scope Rulings Completed Between April 1, 2008, and June 30, 2008:

People's Republic of China

A-570-868: Folding Metal Tables and Chairs from the People's Republic of China

Requestor: Ignite USA, LLC; the VIKA Twofold 2-in-1 Workbench/Scaffold is not within the scope of the antidumping duty order; April 18, 2008.

A-570-890: Wooden Bedroom Furniture from the People's Republic of China

Requestor: AP Industries; convertible cribs (model nos. 1000-0100; 1000-0125; 1000-0160; 1000-1195/2195; 1000-2145; and 1000-2165) are not within the scope of the antidumping duty order; April 30, 2008.

A-570-891: Hand Trucks from the People's Republic of China

Requestor: WelCom Products, Inc.; its MCX Magna Cart is not within the scope of the antidumping duty order; May 12, 2008.

A-570-898: Chlorinated Isocyanurates from the People's Republic of China

Requestor: BioLab, Inc.; chlorinated isocyanurates originating in the People's Republic of China, that are packaged, tableted, blended with additives, or otherwise further processed in Canada by Capo Industries, Ltd., before entering the U.S., are within the scope of the antidumping duty order; April 9, 2008.

A-570-899: Artist Canvas from the People's Republic of China

Requestor: Tara Materials, Inc.; artist canvas purchased in the U.S. that has been woven, primed with gesso, and cut to size in the U.S. and shipped to the PRC for assembling (i.e., wrapping and stapling to the wooden frame) and returned to the U.S. are not within the scope of the antidumping duty order; April 10, 2008.

Multiple Countries

A-549-821: Polyethylene Retail Carrier Bags from Thailand; A-557-813: Polyethylene Retail Carrier Bags from Malaysia; A-570-886: Polyethylene Retail Carrier Bags from the People's Republic of China

Requestor: Medline Industries, Inc.; certain hospital patient belongings bags and surgical kit bags (drawstring bags model nos. DS500C, DS400C, 38667, 25117, 28614, and 42817) are within the scope of the antidumping duty orders; certain hospital patient belongings bags and surgical kit bags (drawstring bags model nos. DONDS600, 7510, 42818, and rigid handle bag model no. 26900) are not within the scope of the antidumping duty orders; May 8, 2008.

Anticircumvention Determinations Completed Between April 1, 2008, and June 30, 2008:

None.

Scope Inquiries Terminated Between April 1, 2008, and June 30, 2008:

None.

Anticircumvention Inquiries Terminated Between April 1, 2008, and June 30, 2008:

None.

Scope Inquiries Pending as of June 30, 2008:

Germany

A-428-801: Ball Bearings and Parts Thereof from Germany

Requestor: Petree & Stoudt Associates, Inc.; whether certain textile-machinery components are within the scope of the antidumping duty order; requested January 24, 2008; initiated March 19, 2008.

A-428-825: Stainless Steel Sheet and Strip in Coils from Germany

Requestor: Almetals, Inc.; whether certain TriClad nickel-clad stainless steel sheet and strip in coils is within the scope of the antidumping duty order; requested May 1, 2008.

Italy

A-475-703: Granular Polytetrafluoroethylene Resin from Italy

Requestor: Petitioner, E.I. DuPont de Nemours & Company; whether imports of Polymist[reg] feedstock produced by the respondent Solvay Solexis, Inc. and Solvay Solexis S.p.A. are within the scope of the antidumping duty order; requested August 18, 2006; initiated October 2, 2006; preliminary ruling July 2, 2007.

People's Republic of China

A-570-502: Iron Construction Castings from the People's Republic of China

Requestor: A.Y. McDonald Mfg. Co.; whether cast iron lids and bases independently sourced from the PRC for its “Arch Pattern” and “Minneapolis Pattern” curb boxes are within the scope of the antidumping duty order; requested April 2, 2007.

A-570-803: Heavy Forged Hand Tools With or Without Handles from the People's Republic of China

Requestor: New Buffalo Corporation; whether its 4 Ton Log Splitter is within the scope of the antidumping duty order; requested May 21, 2008.

A-570-827: Cased Pencils from the People's Republic of China

Requestor: Walgreen Co.; whether the “Artskills™ Draw & Sketch Kit” is within the scope of the antidumping duty order; requested May 25, 2007.

A-570-827: Cased Pencils from the People's Republic of China

Requestor: Walgreen Co.; whether the “Artskills™ Stencil Kit” is within the scope of the antidumping duty order; requested May 25, 2007.

A-570-827: Cased Pencils from the People's Republic of China

Requestor: The Smencil Company; whether its not yet scent applied newspaper pencils are within the scope of the antidumping duty order; requested July 5, 2007.

A-570-864: Pure Magnesium in Granular Form from the People's Republic of China

Requestor: ESM Group Inc.; whether atomized ingots are within the scope of the antidumping duty order; original scope ruling rescinded and vacated April 18, 2007¹; initiated April 18, 2007.

¹ See Notice of Scope Rulings, 72 FR 43245, 43246 (August 3, 2007).

A-570-866: Folding Gift Boxes from the People's Republic of China

Requestor: Footstar; whether certain four boxes for business cards and forms (length x width: 5 x 3.5; 7 x 3.5; 12.125 x 3.5; and 11 x 8.5) are within the scope of the antidumping duty order; requested April 26, 2007.

A-570-866: Folding Gift Boxes from the People's Republic of China

Requestor: Hallmark Cards, Inc.; whether its “FunZip” gift presentation is within the scope of the antidumping duty order; requested June 1, 2007.

A-570-875: Non-Malleable Cast Iron Pipe Fittings from the People's Republic of China

Requestor: Taco Inc.; whether black cast iron flange, green ductile iron flange and cast iron “Twin Tee” are within the scope of the antidumping duty order; requested September 6, 2007.

A-570-882: Refined Brown Aluminum Oxide from the People's Republic of China

Requestor: 3M Company; whether certain semi-friable and heat-treated, specialty aluminum oxides are within the scope of the antidumping duty order; requested September 19, 2006; initiated January 17, 2007.

A-570-886: Polyethylene Retail Carrier Bags from the People's Republic of China

Requestor: Majestic International; whether certain polyethylene gift bags (UPC codes starting with 8-51603- and ending with: 00002-3, 00004-7, 00140-2, 00141-9, 00142-6, 00041-2, 00040-5, 00052-8, 00059-7, 00066-5, 00068-9, 00071-9, 00072-6, 00075-7, 00076-4, 00092-4, 00093-1, 00094-8, 00098-6, 00131-0, 00132-7, 00133-4, 00144-0, 00145-7, 00152-5, 00153-2, 00155-6, 00156-3, 00160-0, 00163-1, 00165-5, 00166-2, 00175-4, 00176-1, 00181-5, 00183-9, 00226-3, 00230-0, 00231-7, 00246-1, 00251-5, 00252-2, 00253-9, 00254-6, 00255-3, 00256-0, 00257-7, 00259-1, 00260-7, 00262-1, 00263-8, 00300-0, 00301-7, 00302-4, 00303-1, 00305-5, 00306-2, 00307-9, 00308-6, 00309-3, 00350-5, 00351-2, 00352-9, 00353-6, 00354-3, 00355-0, 00356-7, 00357-4, 00358-1) are within the scope of the antidumping duty order; requested June 2, 2007.

A-570-886: Polyethylene Retail Carrier Bags from the People's Republic of China

Requestor: Rayton Produce Packaging Inc.; whether its promotional bag (model # F-OPPAPEJZLG) is within the scope of the antidumping duty order; requested November 20, 2007.

A-570-886: Polyethylene Retail Carrier Bags from the People's Republic of China

Requestor: Best Buy Purchasing LLC; whether a certain sealable polyethylene plastic bag (BESTBUY12ADH) is within the scope of the antidumping duty order; requested May 19, 2008.

A-570-886: Polyethylene Retail Carrier Bags from the People's Republic of China

Requestor: Bags on the Net; whether a certain polyethylene bag (HOLIDAYINN-8410) is within the scope of the antidumping duty order; requested May 30, 2008.

A-570-890: Wooden Bedroom Furniture from the People's Republic of China

Requestor: Dutailier Group, Inc.; whether its convertible cribs (infant crib to toddler bed; model numbers 1230C8, 3500C8, 5400C8, 5500C8, and 6200C8) are within the scope of the antidumping duty order; requested September 21, 2007; initiated February 25, 2008; preliminary ruling May 27, 2008.

A-570-890: Wooden Bedroom Furniture from the People's Republic of China

Requestor: Armel Enterprises, Inc.; whether certain children=s playroom and accent furniture are within the scope of the antidumping duty order; requested September 24, 2007.

A-570-890: Wooden Bedroom Furniture from the People's Republic of China

Requestor: Shermag Inc.; whether the Three-in-One Cribs (model # 2056-48, 2110-49, and 2045-48) are within the scope of the antidumping duty order; requested November 2, 2007; initiated February 25, 2008.

A-570-890: Wooden Bedroom Furniture from the People's Republic of China

Requestor: Target Corporation; whether the Shabby Chic secretary desk and mirror are within the scope of the antidumping duty order; requested November 30, 2007.

A-570-890: Wooden Bedroom Furniture from the People's Republic of China

Requestor: Zinus, Inc. and Zinus (Xiamen) Inc.; whether its Smartbox mattress support and box spring are within the scope of the antidumping duty order; requested January 22, 2008.

A-570-890: Wooden Bedroom Furniture from the People's Republic of China

Requestor: Acme Furniture Industry, Inc.; whether its mattress supports (item nos. 2833, 2834, 2835, 2836 and 2837) are within the scope of the antidumping duty order; requested February 26, 2008.

A-570-891: Hand Trucks from the People's Republic of China

Requestor: Northern Tool & Equipment Co.; whether a high-axle torch cart (item #164771) is within the scope of the antidumping duty order; requested March 27, 2007.

A-570-891: Hand Trucks from the People's Republic of China

Requestor: Eastman Outdoors, Inc.; whether its deer cart (model # 9930) is within the scope of the antidumping duty order; requested October 17, 2007.

A-570-891: Hand Trucks from the People's Republic of China

Requestor: American Lawn Mower Company; whether its Collect-It Garden Waste Remover is within the scope of the antidumping duty order; requested January 24, 2008.

A-570-891: Hand Trucks from the People's Republic of China

Requestor: Corporate Express Inc.; whether its luggage carts, model numbers CEB31210 and CEB31490, are within the scope of the antidumping duty order; requested January 31, 2008.

A-570-894: Certain Tissue Paper Products from the People's Republic of China

Requestor: Walgreen Co.; whether gift bags of five different sizes, consisting of a gift bag, one crinkle bow, and 1-6 sheets of tissue paper (depending on bag size) are within the scope of the antidumping duty order; requested February 6, 2008.

A-570-894: Certain Tissue Paper Products from the People's Republic of China

Requestor: QVC Corporation; whether certain gift wrap kits that include tissue paper (QVC Item # H04692 - 218 Piece Holiday Wrap Set; and QVC Item # H98411 - Pretty Presents 115 Piece Wrap Set with Gift Bags by Valerie) and do not include tissue paper (QVC Item # F02444 - All Occasion 300-piece Gift Bag Kit with Embellishments; QVC Item # H06262 - 17-Piece Christmas Gift Bag, Box and Tin Set; QVC Item # H89831 - Wooded Wonderland 20-Piece Box and Bag Gift Set; and QVC Item # H06260 - 22-Piece Christmas Gift Bag, Box and Tin Set) are within the scope of the antidumping duty order; requested April 29, 2008.

A-570-898: Chlorinated Isocyanurates from the People's Republic of China

Requestor: BioLab, Inc.; whether chlorinated isocyanurates originating in the People's Republic of China, that are packaged, tableted, blended with additives, or otherwise further processed in Vietnam before entering the U.S., are within the scope of the antidumping duty order; requested August 15, 2007; initiated March 21, 2008.

A-570-901: Lined Paper Products from the People's Republic of China

Requestor: Lakeshore Learning Materials; whether certain printed educational materials, product numbers RR973 and RR974 (Reader's Book Log); GG185 and GG186 (Reader's Response Notebook); GG181 and GG182 (The Writer's Notebook); RR673 and RR674 (My Word Journal); AA185 and AA186 (Mi Diario de Palabras); RR630 and RR631 (Draw & Write Journal); AA786 and AA787 (My First Draw & Write Journal); AA181 and AA182 (My Picture Word Journal); GG324 and GG325 (Writing Prompts Journal); EE441 and EE442 (Daily Math Practice Journal Grades 1 - 3); EE443 and EE444 (Daily Math Practice Journal Grades 4 - 6); EE651 and EE652 (Daily Language Practice, Grades 1-3); EE653 and EE654 (Daily Language Practice Journal, Grades 4 - 6), are within the scope of the antidumping duty order; requested December 7, 2006; initiated May 7, 2007.

Multiple Countries

A-423-808 and C-423-809: Stainless Steel Plate in Coils from Belgium; A-475-822: Stainless Steel Plate in Coils from Italy; A-580-831: Stainless Steel Plate in Coils from South Korea; A-583-830: Stainless Steel Plate in Coils from Taiwan; A-791-805 and C-791-806: Stainless Steel Plate in Coils from South Africa

Requestor: Ugine & ALZ Belgium N.V.; whether stainless steel products with an actual thickness of less than 4.75 mm, regardless of nominal thickness, are within the scope of the antidumping and countervailing duty orders; requested June 8, 2007; initiated July 23, 2007.

Anticircumvention Rulings Pending as of June 30, 2008:

People's Republic of China

A-570-868: Folding Metal Tables and Chairs from the People's Republic of China

Requestor: Meco Corporation; whether the common leg table (a folding metal table affixed with cross bars that enable the legs to fold in pairs) produced in the PRC is a minor alteration that circumvents the antidumping duty order; requested October 31, 2005; initiated June 1, 2006.

A-570-894: Certain Tissue Paper Products from the People's Republic of China

Requestor: Seaman Paper Company; whether imports of tissue paper from Vietnam made out of jumbo rolls of tissue paper from the PRC are circumventing the antidumping duty order; requested July 19, 2006; initiated September 5, 2006; preliminary ruling April 15, 2008.

Interested parties are invited to comment on the completeness of this list of pending scope and anticircumvention inquiries. Any comments should be submitted to the Deputy Assistant Secretary for AD/CVD Operations, Import Administration, International Trade Administration, 14th Street and Constitution Avenue, N.W., APO/Dockets Unit, Room 1870, Washington, DC 20230.

This notice is published in accordance with 19 C.F.R. 351.225(o).

Dated: August 14, 2008.
Stephen J. Claeys,
Deputy Assistant Secretary for Import Administration.

[FR Doc. E8-19413 Filed 8-20-08; 8:45 am]

BILLING CODE 3510-DS-S